SOCIAL SECURITY ADMINISTRATION

Statement of Organization, Functions and Delegations of Authority

This statement amends Part T of the Statement of the Organization, Functions and Delegations of Authority that covers the Social Security Administration (SSA). Chapter TA covers the Deputy Commissioner for Disability and Income Security Programs. Notice is hereby given that Chapter TAH, which covers the Office of Hearings and Appeals, is being amended to abolish the Office of Special Programs and Services (TAH-2). The change is as follows:

Chapter TA

Office of Disability and Income Security Programs

SubChapter TAH

Office of Hearings and Appeals

Section TAH.10 The Office of Hearings and Appeals—(Organization):

The Office of Hearings and Appeals, under the leadership of the Associate Commissioner for Hearings and Appeals, includes:

C. The Immediate Office of the Associate Commissioner for Hearings and Appeals includes:

Delete:

2. The Office of Special Programs and Services (TAH-2).

Section TAH.20 The Office of Hearings and Appeals—(Functions)

C. The Immediate Office of the Associate Commissioner for Hearings and Appeals (TAH) provides the Associate Commissioner and the Deputy Associate Commissioner with staff assistance on the full range of their responsibilities.

Delete in its entirety:

2: The Office of Special Programs and Services (TAH-2).

Dated: October 9, 2003.
Jo Anne B. Barnhart,
Commissioner.

[FR Doc. 03-26991 Filed 10-24-03; 8:45 am]

BILLING CODE 4191-02-P